DEPARTMENT OF DEFENSE

Department of the Army

[Docket ID USA-2018-HQ-0009]

Proposed Collection; Comment Request

AGENCY: Department of the Army, DoD.

ACTION: Information collection notice.

SUMMARY: In compliance with the Paperwork Reduction Act of 1995, the Department of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 21, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army Marketing and Research Group, ATTN: Mrs. Crystal G. Deleon, 2530 Crystal Drive, Suite 4150, Arlington, VA 22202, or call 703-545-3480.

SUPPLEMENTARY INFORMATION:

Title; Associated Form; and OMB Number: Marketing Army Civilian Employment Survey; OMB Control Number 0702-XXXX.

Needs and Uses: The information collection requirement is necessary to provide the data needed to understand the best marketing strategies to raise awareness of Army civilian employment opportunities with the ultimate goal of filling critical Department of the Army occupations.

Affected Public: Individuals or Households.

Annual Burden Hours: 1,667.

Number of Respondents: 5,000.

Responses per Respondent: 1.

Annual Responses: 5,000.

Average Burden per Response: 20 minutes.

Frequency: One-Time.

The purpose of this collection is to provide quantitative (survey) data to the Department of the Army on the civilian workforce's attitudes, perceptions, and awareness of civilian career opportunities within the Federal Government, and the Army. The Department of the Army maintains a listing of professional and technical skill sets that are critical to the Service's needs of today and tomorrow. The collection, compilation, and analysis of the proposed quantitative data is imperative to the Department of the Army's marketing and recruitment strategy for informing, identifying, and ultimately hiring those identified with the skill sets necessary for a sustainable Department of the Army. Information for this study will be collected as a survey which will be administered online.

The data collected will be supplemented with reviews of recent Army branding and marketing practices as well as of recent and projected hiring needs into Department of the Army Civilian jobs. Respondents for quantitative study will be individuals currently employed in the private sector in occupations deemed essential by the Army or individuals who are considering careers in these essential occupations. Quota groups will be established to ensure there is an adequate representation of career stage (pre-, early- and mid) among respondents. Participation in the quantitative study will be voluntary. This is a one-time data collection anticipated to be completed within approximately three months of OMB approval.

The data collection will focus on awareness and knowledge of Department of Army Civilian job opportunities; comparison of Department of Army Civilian vs. private jobs/careers across key dimensions; most important reasons to seek civilian employment in the Army; perceived negative aspects of Army Civilian employment; reactions to facts and marketing concepts concerning Army Civilian employment; and intended behaviors concerning applying for civilian employment in the Army or recommending to others that they do so.

Dated: March 19, 2018.
Aaron Siegel,
Alternate OSD Federal Register, Liaison Officer, Department of Defense.

[FR Doc. 2018-05812 Filed 3-21-18; 8:45 am]

BILLING CODE 5001-06-P